DEPARTMENT OF AGRICULTURE

Natural Resources Conservation Service

Buffalo Rapids Watershed, Montana

AGENCY: Natural Resources Conservation Service, USDA.

ACTION: Notice of Finding Of No Significant Impact.

SUMMARY: Pursuant to Section 102(2)(C) of the National Environmental Policy Act of 1969; the Council on Environmental Quality Guidelines (40 CFS Part 1500); and the Natural Resources Conservation Service Guidelines (7 CFR Part 650); the Natural Resources Conservation Service, U.S. Department of Agriculture, gives notice that an environmental impact statement is not being prepared for the Buffalo Rapids Watershed, Custer, Dawson, and Prairie Counties, Montana.

FOR FURTHER INFORMATION CONTACT: Shirley Gammon, State Conservationist, Natural Resources Conservation Service, 10 East Babcock, Room 443, Bozeman, Montana, 59715, telephone (406) 587-6813.

SUPPLEMENTARY INFORMATION: The environmental assessment of this federally assisted action indicates that the project will not cause significant local, regional, or national impacts on the environment. As a result of these findings, Shirley Gammon, State Conservationist, has determined that the preparation and review of an environmental impact statement are not needed for this project.

The project concerns a plan for agricultural water management and watershed protection. The planned works of improvement include 19,000 acres of irrigation water management, nutrient management and conservation crop rotation; 2,100 acres of pest management; 500 acres of prescribed grazing; 65 miles of gated pipe; 30 miles of on-farm pipelines; 1,900 acres of center pivots; 1,900 acres of land leveling; 73 miles of lateral pipelines; improvements to 12 feedlots; and 8,000 acres of polyacrylamide application.

The Notice of a Finding of No Significant Impact (FONSI) has been forwarded to the Environmental Protection Agency and to various federal, state, and local agencies and interested parties. A limited number of copies of the FONSI are available to fill single copy requests at the above address. Basic data developed during the environmental evaluation are on file and may be reviewed by contacting David Heilig.

No administrative action on implementation of the proposal will be taken until 30 days after the date of this publication in the Federal Register.

(This activity is listed in the Catalog of Federal Domestic Assistance under No. 10.904—Watershed Protection and Flood Prevention—and is subject to the provisions of Executive Order 12372, which requires entrgovernmental consultation with state and local officials.)

Dated: January 3, 2000.
Shirley Gammon,
State Conservationist.

[FR Doc. 00-1020 Filed 1-14-00; 8:45 am]

BILLING CODE 3410-16-M